DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: (301) 496-7057; fax: (301) 402-0220. A signed Confidential Disclosure Agreement will be required to receive copies of the patent applications.

Predictive Test for Age-Related Macular Degeneration in Asymptomatic Individuals

Description of Technology: Age-related macular degeneration (ARMD) is the leading cause of severe, irreversible vision loss for those over the age of fifty in the United States and in other developed countries. Thirteen million Americans over the age of forty have ARMD. ARMD is caused by the deterioration of the central area of the retina, or macula, resulting in a loss of central vision. This disease is believed to be a multigenic disorder, and is triggered by environmental factors such as smoking, age or diet in genetically susceptible individuals.

The present invention describes a highly predictive genetic test for universal practical clinical use to identify individuals at increased risk for ARMD. It comprises a rapid, accurate and affordable genetic screen, utilizing DNA microarray technology on a single chip. Sixteen genes are screened for 90 mutations/polymorphisms associated with ARMD, with a high predictive power (up to 92.7%) to identify asymptomatic carriers at risk. Accurate prediction of genetic susceptibility to this disorder will allow interventions to protect at-risk individuals.

Application(s): Diagnostic kit to identify asymptomatic individuals at risk for age-related macular degeneration; make possible the identification of genetic factors in an affected individual, aiding in the development of a tailored therapeutic plan; provide genetic epidemiologic data to elucidate the role of genetic factors in the progression of the disease.

Market: Individuals at risk for age-related macular degeneration. There are an estimated 15 million cases of age-related macular degeneration in the United States, and 50 million cases worldwide.

Development Status: This technology requires analytic validation before commercialization.

Inventors: Cigdem F. Dogulu, Owen M. Rennert, and Wai-Yee Chan (NICHD)

Patent Status: U.S. Provisional Application No. 60/733,042 filed 02 Nov 2005 (HHS Reference No. E-023-2006/0-US-01)

Licensing Status: Available for non-exclusive or exclusive licensing.

Licensing Contact: Fatima Sayyid, M.H.P.M.; 301/435-4521; sayyidf@mail.nih.gov

Collaborative Research Opportunity: The NICHD Laboratory of Clinical Genomics is seeking statements of capability or interest from parties interested in collaborative research to further develop, evaluate, or commercialize Method Evolved for Recognition and Testing of Age-Related Macular Degeneration (MERT-ARMD). Please contact Kenneth J. Rose, Esq, PhD., at (301) 496-0477 or rosek@mail.nih.gov for more information.

Method for Promoting Stem Cell Survival

Description of Technology: Regenerative medicine holds the potential to revolutionize the treatment of a host of diseases, such as neurodegenerative disorders, stroke, and many others. Stem cell technologies are a central focus of regenerative medicine research and treatment of cancer. An essential component of this research is the ability to control stem cell survival.

This technology describes a method to promote stem cell survival and proliferation by manipulating the phosphorylation state a key protein in these processes. This method has been shown to enhance survival and proliferation in stem cell cultures in vitro, and also in neuronal precursor cells in vivo.

Application(s): Clinical treatment for stroke and other neurodegenerative diseases by administration of agents that promote stem cell survival and proliferation; increased generation of stem cells in vitro; diagnostic assay for cancer to determine the phosphorylation state of the protein in tumors; screening assays for agents that promote proliferation of stem cells or inhibit proliferation of cancer cells.

Market: Treatment for neurodegenerative disorders such as Parkinson's disease or stroke; prognostic marker to help determine response of individuals with cancer; commercial suppliers or large-scale users of stem cells.

Development Status: Early stage.

Inventors: Andreas Androutsellis-Theotokis and Ronald D.G. McKay (NINDS).

Patent Status: U.S. Provisional Application No. 60/715,935 filed 08 Sep 2005 (HHS Reference No. E-239-2005/0-US-01).

Licensing Status: Available for non-exclusive or exclusive licensing.

Licensing Contact: Fatima Sayyid, M.H.P.M.; (301) 435-4521; sayyidf@mail.nih.gov.

Collaborative Research Opportunity: The National Institute of Neurological Disorders and Stroke is seeking statements of capability or interest from parties interested in collaborative research to further develop, evaluate, or commercialize agents that inhibit or induce phosphorylation of a protein that is a key regulator of proliferation and survival of stem cells and precursor cells. Please contact Martha Lubet at (301) 435-3120 or lubetm@mail.nih.gov.

Dated: April 24, 2006.
Steven M. Ferguson,
Director, Division of Technology Development and Transfer Office of Technology Transfer, National Institutes of Health.

[FR Doc. E6-6547 Filed 5-1-06; 8:45 am]

BILLING CODE 4167-01-P